DEPARTMENT OF THE INTERIOR

Bureau of Land Management

[LLOR-936000-L14300000-ET0000; HAG-09-0334; OROR-45928]

Notice of Proposed Withdrawal Extension, In-Part, and Opportunity for Public Meeting; Oregon

AGENCY: Bureau of Land Management, Interior.

ACTION: Notice.

SUMMARY: The United States Forest Service (USFS) has filed an application with the Bureau of Land Management (BLM) that proposes to extend the duration of Public Land Order (PLO) No. 6874, in-part, for an additional 20-year term as it affects 59.78 acres of land withdrawn for the Panelli Seed Orchard. The USFS has determined the remaining 40-acres of land withdrawn by PLO No. 6874 for the Quartz Evaluation Plantation is no longer needed, therefore the withdrawal on this portion will not be extended. The withdrawal created by PLO No. 6874 will expire on August 27, 2011, unless extended. This notice also gives the public an opportunity to comment on the proposed action and to request a public meeting.

DATES: Comments and requests for a public meeting must be received by June 7, 2010.

ADDRESSES: Comments and meeting requests should be sent to the Oregon/Washington State Director, BLM, P.O. Box 2965, Portland, Oregon 97208-2965.

FOR FURTHER INFORMATION CONTACT: Catherine Callaghan, Fremont-Winema National Forest, (541) 947-6326, or Charles R. Roy, BLM Oregon/Washington State Office, (503) 808-6189.

SUPPLEMENTARY INFORMATION: The USFS has filed an application requesting the Secretary of the Interior to extend PLO No. 6874, in part, as it pertains to the Panelli Seed Orchard (56 FR 11940 (1991)), for an additional 20-year term. PLO No. 6874 withdrew certain lands in Okanogan County, Oregon, from location and entry under the United States mining laws. Such application would be subject to valid existing rights, as it affects the following described land:

Willamette Meridian

Fremont National Forest

Panelli Seed Orchard

T. 37 S., R. 15 E.,

sec. 24, NE¼SE¼.

T. 37 S., R. 16 E.,

sec. 19, W½ lot 3.

The area described contains approximately 59.78 acres in Okanogan County.

That portion of PLO No. 6874 withdrawn to protect the Quartz Evaluation Plantation will expire on August 27, 2011, and is described as follows:

Willamette Meridian

Fremont National Forest

Quartz Evaluation Plantation

T. 37 S., R. 16 E.,

sec. 28, SW¼NE¼.

The area described contains 40 acres in Okanogan County.

The purpose of the proposed withdrawal extension is to continue the protection of the unique and important forest genetic resources and the expenditure of Federal funds at the Panelli Seed Orchard.

The use of a right-of-way, interagency agreement, or cooperative agreement would not provide adequate protection.

No water rights would be needed to fulfill the purpose of the requested withdrawal extension.

Records related to the application may be examined by contacting Charles R. Roy at the above BLM address or phone number.

For a period of 90 days from the date of publication of this notice, all persons who wish to submit comments, suggestions, or objections in connection with the proposed withdrawal extension may present their views in writing to the BLM State Director at the address indicated above.

Comments, including names and street addresses of respondents, will be available for public review at the address indicated above during regular business hours.

Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organization or businesses, will be made available for public inspection in their entirety.

Notice is hereby given that an opportunity for a public meeting is afforded in connection with the proposed withdrawal extension. All interested parties who desire a public meeting for the purpose of being heard on the proposed withdrawal extension must submit a written request to the BLM State Director at the address indicated above by June 7, 2010. Upon determination by the authorized officer that a public meeting will be held, a notice of the time and place will be published in the Federal Register and in at least one local newspaper, no less than 30 days before the scheduled date of the meeting.

The application will be processed in accordance with the regulations set forth in 43 CFR part 2300.

(Authority: 43 CFR 2310.3-1)

Fred O'Ferrall,
Chief, Branch of Lands and Mineral Resources.

[FR Doc. 2010-4959 Filed 3-8-10; 8:45 am]

BILLING CODE 3410-11-P